DEPARTMENT OF DEFENSE

[Transmittal No. 20-56]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-56 with attached Policy Justification and Sensitivity of Technology.

Dated: November 18, 2020.
Kayyonne T. Marston,
Alternate OSD Federal Register Liaison Officer, Department of Defense.

BILLING CODE 5001-06-P

BILLING CODE 5001-06-C

Transmittal No. 20-56

Notice of Proposed Issuance of Letter of Offer Pursuant to Section 36(b)(1) of the Arms Export Control Act, as amended

(i) Prospective Purchaser: Government of France

(ii) Total Estimated Value:

Major Defense Equipment* | $ 50 million
Other | $300 million
Total | $350 million

(iii) Description and Quantity or Quantities of Articles or Services under consideration for Purchase: Support for C-130 aircraft.

Major Defense Equipment (MDE):

Four (4) AE-2100D Turbo Prop Engines

Two (2) Multifunctional, Information Distribution System-Low Volume Terminal Block Upgrade Two (MIDS-LVT BU2)

Non-MDE: Also included are AN/ARC-210 radios; AN/ARC-164 radios; L-3 CSW Multiband Receiver/Transmitters; AN/ARN-153 Navigation Systems; AN/ARN-147 Receivers; AN/APN-241 Radar Receiver Transmitter Processor; ARC-190 High Frequency Receivers; AAR-60 Missile Launch Warning Systems; MTS-A Forward Looking Infrared (FLIR) system; AN/APX-119 Identification Friend or Foe Systems; Joint Mission Planning System (JMPS); encryption devices; spare and repair parts; software delivery and support; publications and technical documentation; U.S. Government and contractor engineering; technical and logistics support services; and other related elements of logistical and program support.

(iv) Military Department: Air Force (FR-D-QAM)

(v) Prior Related Cases, if any: GY-D-SUA and FR-D-SAE

(vi) Sales Commission, Fee, etc., Paid, Offered, or Agreed to be Paid: None

(vii) Sensitivity of Technology Contained in the Defense Article or Defense Services Proposed to be Sold: See Attached Annex

(viii) Date Report Delivered to Congress: September 2, 2020

*As defined in Section 47(6) of the Arms Export Control Act.

POLICY JUSTIFICATION

France—C-130 Aircraft Support

The Government of France has requested to buy four (4) AE-2100D Turbo Prop engines and two (2) Multifunctional, Information Distribution System-Low Volume Terminal Block Upgrade Two (MIDS-LVT BU2). Also included are AN/ARC-210 radios; AN/ARC-164 radios; L-3 CSW Multiband Receiver/Transmitters; AN/ARN-153 Navigation Systems; AN/ARN-147 Receivers; AN/APN-241 Radar Receiver Transmitter Processor; ARC-190 High Frequency Receivers; AAR-60 Missile Launch Warning Systems; MTS-A Forward Looking Infrared (FLIR) system; AN/APX-119 Identification Friend or Foe Systems; Joint Mission Planning System (JMPS); encryption devices; spare and repair parts; software delivery and support; publications and technical documentation; U.S. Government and contractor engineering; technical and logistics support services; and other related elements of logistical and program support. The estimated total cost is $350 million.

This proposed sale will support the foreign policy and national security of the United States by helping to improve security of a NATO ally which is an important force for political stability and economic progress in Europe.

The proposed sale will improve France's capability to meet current and future threats by providing the necessary sustainment, services, and spare parts to support the co-managed fleet of French and German C-130 aircraft. France will have no difficulty absorbing these articles and/or services into its armed forces.

The proposed sale of this equipment and support will not alter the basic military balance in the region.

The principal contractor will be Lockheed Martin Corporation, Marietta, GA; Rolls Royce Cooperation, Indianapolis, IN; General Electric Aviation System, LTD/Dowty, Sterling, VA; Raytheon, Cedar Rapids, IA; and ViaSat, Carlsbad, CA. There are no known offset agreements proposed in connection with this potential sale.

Implementation of this proposed sale will require the assignment of (1) U.S. contractor representative to France for a duration of three years to provide technical assistance and support to include field services, engineering tech support and integrated logistics support management.

There will be no adverse impact on U.S. defense readiness as a result of this proposed sale.

Transmittal No. 20-56

Notice of Proposed Issuance of Letter of Offer Pursuant to Section 36(b)(1) of the Arms Export Control Act

Annex

Item No. vii

(vii) Sensitivity of Technology:

1. The Rolls Royce AE 2100D3 Turboprop Engine is the primary powerplant on the C-130J Hercules military airlift aircraft.

2. The Multifunctional Information Distribution System-Low Volume Terminal (MIDS-LVT) is an advanced Link-16 command, control, communications, and intelligence (C3I) system incorporating high-capacity, jam-resistant, digital communication links for exchange of near real-time tactical information, including both data and voice, among air, ground, and sea elements. MIDS-LVT is intended to support key theater functions such as surveillance, identification, air control, weapons engagement coordination, and direction for all services and allied forces. The system provides jamming-resistant, wide-area communications on a Link-16 network among MIDS and Joint Tactical Information Distribution System (JTIDS) equipped platforms.

3. AN/AAR-60 Missile Launch Detection System (MILDS) is a passive, true imaging sensor device that is optimized to detect the radiation signature of a threat missile's exhaust plume within the Ultra Violet (UV) solar blind spectral band. Functionally, the architecture detects incoming missile threats and indicates their direction of arrival with the 'maximum' of warning time. The system is further noted as featuring 'inherently' high-spacial resolution, 'advanced' temporal processing, a 'very high' declaration rate, the 'virtual elimination' of false alarm rates, 'fast' threat detection and the automatic initiation of appropriate countermeasures. Physically, a typical application comprises four to six self-contained detector units each of which provides 'full' signal processing.

4. The AN/AAS-54 MTS-A Forward Looking Infrared (FLIR) System integrates electro-optical, infrared, laser designation, and laser illumination capabilities to provide superior detection, ranging, and tracking. The system provides high rate of stabilization across six axis and flexible operating modes including integrated line-of-sight targeting and target tracking, using centroid, area and feature tracks. The system contains an Inertial Measurement Unit on the gimbal to enable accurate target geolocation. The MTS-A is capable of integration onto fixed-wing, rotary-wing, and unmanned air vehicle platforms.

5. Joint Mission Planning System (JMPS) is a multi-platform PC based mission planning system.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that France can provide substantially the same degree of protection for the sensitive technology being released as the U.S. Government. This sale is necessary in furtherance of the U.S. foreign policy and national security objectives outlined in the Policy Justification.

9. All defense articles and services listed in this transmittal have been authorized for release and export to the France.

[FR Doc. 2020-25848 Filed 11-20-20; 8:45 am]

BILLING CODE 5001-06-P